DEPARTMENT OF JUSTICE

Bureau of Alcohol, Tobacco, Firearms and Explosives

[OMB 1140-0111]

Agency Information Collection Activities; Proposed eCollection of eComments Requested; Reactivation Suitability Request—ATF Form 3252.5

AGENCY: Bureau of Alcohol, Tobacco, Firearms and Explosives, Department of Justice.

ACTION: 60-day notice.

SUMMARY: The Bureau of Alcohol, Tobacco, Firearms and Explosives (ATF), Department of Justice (DOJ), will submit the following information collection request to the Office of Management and Budget (OMB) for review and approval in accordance with the Paperwork Reduction Act of 1995. The proposed collection OMB 1140-0111 (Reactivation Suitability Request—ATF Form 3252.5) is being revised due to minor material changes to the form, such as conversion of data fields from narrative (i.e., sentence) format to question format (i.e., yes/no, with narrative for yes responses).

DATES: Comments are encouraged and will be accepted for 60 days until April 14, 2023.

FOR FURTHER INFORMATION CONTACT: If you have additional comments regarding the estimated public burden or associated response time, suggestions, or need a copy of the proposed information collection instrument with instructions, or additional information, contact: Renee Reid, Field Operations, Enforcement Support Branch—Mailstop (7.E-401), either by mail at 99 New York Ave. NE, Washington, DC 20226, by email at Renee.Reid@atf.gov or telephone at 202-648-9255.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and, if so, how the quality, utility, and clarity of the information to be collected can be enhanced; and

—Minimize the burden of the collection of information on those who are to respond, including through the use of appropriate automated, electronic, mechanical, or other technological collection techniques or other forms of information technology, e.g., permitting electronic submission of responses.

Overview of this information collection:

1. Type of Information Collection (check justification or form 83): Revision of a Currently Approved Collection.

2. The Title of the Form/Collection: Reactivation Suitability Request.

3. The agency form number, if any, and the applicable component of the Department sponsoring the collection:

Form number (if applicable): ATF Form Number 3252.5.

Component: Bureau of Alcohol, Tobacco, Firearms and Explosives, U.S. Department of Justice.

4. Affected public who will be asked or required to respond, as well as a brief abstract:

Primary: Individuals or households.

Other (if applicable): None.

Abstract: The Confidential Informant (CI) handler will use the Reactivation Suitability Request—ATF Form 3252.5 to reinstate an individual to serve as a CI for ATF.

5. An estimate of the total number of respondents and the amount of time estimated for an average respondent to respond: An estimated 50 respondents will respond to this collection annually, and it will take each respondent approximately 2 hours to complete their responses.

6. An estimate of the total public burden (in hours) associated with the collection: The estimated annual public burden associated with this collection is 100 hours, which is equal to 50 (# total respondents for this IC) * 2 (120 minutes i.e. the total time per response).

If additional information is required contact: John R. Carlson, Department Clearance Officer, United States Department of Justice, Justice Management Division, Policy and Planning Staff, Two Constitution Square, 145 N Street NE, 4W-218, Washington, DC 20530.

Dated: February 3, 2023.
John R. Carlson,
Department Clearance Officer for PRA, U.S. Department of Justice.

[FR Doc. 2023-02942 Filed 2-10-23; 8:45 am]

BILLING CODE 4410-FY-P